DEPARTMENT OF TRANSPORTATION

Office of the Secretary of Transportation

[Docket No.: DOT-OST-2025-0898]

DOT Advisory Committee on Human Trafficking

AGENCY: Office of the Secretary of Transportation (OST), U.S. Department of Transportation (DOT).

ACTION: Notice; solicitation of nominations for membership.

SUMMARY: The Department solicits nominations for membership to serve on the DOT Advisory Committee on Human Trafficking, which is required to make triennial recommendations to the Secretary of Transportation on countering human trafficking in the transportation sector.

DATES: The deadline for nominations for Committee members must be received on or before October 14, 2025.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal holidays.

FOR FURTHER INFORMATION CONTACT: Maha Alkhateeb, Senior Counter-Trafficking Advisor, Office of the Secretary's Office of International Transportation and Trade, maha.alkhateeb@dot.gov, 202-366-8160.

SUPPLEMENTARY INFORMATION: The DOT Advisory Committee on Human Trafficking was established by the Secretary of Transportation on October 3, 2018 in accordance with section 5(a) of the 2018 Combating Human Trafficking in Commercial Vehicles Act (Pub. L. 115-99), reestablished on July 29, 2022 in accordance with section 23020 of the Infrastructure Investment and Jobs Act (Pub. L. 117-58), and it operates in accordance with the Federal Advisory Committee Act, 5 U.S.C. ch. 10. The Committee is continuing, but subject to renewal every two years; its current charter expires on July 29, 2026. The purpose of the DOT Advisory Committee on Human Trafficking is to make triennial recommendations to the Secretary of Transportation on countering human trafficking in the transportation sector.

In particular, the DOT Advisory Committee on Human Trafficking must submit a triennial counter-trafficking report that relates to human trafficking violations involving commercial motor vehicles and includes recommendations for countering human trafficking and an assessment of best practices by transportation stakeholders. The Committee is expected to meet quarterly and subcommittee meetings are expected to meet monthly, or as determined necessary by the Committee chairperson and Designated Federal Officer. Unless otherwise required by law or approved by the Secretary, all meetings will be held virtually. Members must actively participate in Committee deliberations and contribute substantively to the Committee's work. Committee service requires review of complex materials, participation in subcommittee work, preparation for meetings outside of scheduled Committee sessions, stakeholder consultations, online research, drafting of report content, report preparation, and translating specialized knowledge into actionable recommendations.

In this notice, the Department is soliciting nominations for membership to the Committee. The Committee shall report to the Secretary through the Assistant Secretary for Aviation and International Affairs. In accordance with the 2018 Combating Human Trafficking in Commercial Vehicles Act, the Committee comprises 15 members, representing trafficking advocacy organizations; law enforcement; and the trucking, bus, rail, aviation, maritime, and port sectors, including industry and labor. Appointments are for the life of the Committee.

The Department is interested in ensuring membership is balanced fairly in terms of the points of view represented and the functions to be performed by the Committee.

Process and Deadline for Submitting Nominations: Qualified individuals can self-nominate or be nominated by any individual or organization. Past members of the Committee are welcome to apply. To be considered for the DOT Advisory Committee on Human Trafficking, nominators should submit the following information:

(1) Name, title, and relevant contact information (including phone, fax, and email address) of the individual requesting consideration;

(2) A letter of support from a company, union, trade association, academic, or nonprofit organization on letterhead containing a brief description of the nominee's counter-trafficking expertise and why they should be considered for membership;

(3) A short biography of the nominee, including professional and academic credentials, counter-trafficking expertise and accomplishments, and any experience serving on advisory committees;

(4) An affirmative statement that the nominee meets all Committee eligibility requirements. Please do not send company, trade association, or organization brochures or any other information. Materials submitted should total two pages or less. Should more information be needed, DOT staff will contact the nominee, obtain information from the nominee's past affiliations, or obtain information from publicly available sources, such as the internet. Nominations must be received before October 14, 2025. Nominees selected for appointment to the Committee will be notified by return email and by a letter of appointment.

Issued in Washington, DC, on September 8, 2025.
Daniel J. Edwards,
Principal Deputy Assistant Secretary for Aviation and International Affairs.

[FR Doc. 2025-17497 Filed 9-10-25; 8:45 am]

BILLING CODE 4910-9X-P